DEPARTMENT OF ENERGY

Federal Energy Regulatory Commission

Notice of Application for Amendment of License and Soliciting Comments, Motions To Intervene, and Protests

March 7, 2002.

Take notice that the following hydroelectric application has been filed with the Commission and is available for public inspection. A mailing error has occurred; therefore, this notice is being reissued and the deadline for filing is extended.

a. Application Type: Amendment of License.

b. Project No.: 4659-026.

c. Date Filed: August 8, 2001.

d. Applicant: Independence County.

e. Name of Project: White River Lock and Dam No. 3 Hydroelectric Project.

f. Location: The project is located on the White River, in Independence County, Arkansas.

g. Filed Pursuant to: Federal Power Act, 16 U.S.C. 791(a)-825(r).

h. Applicant Contact: Donald H. Clarke, Law Offices of GKRSE, 1500 K Street NW, Suite 330, Washington, DC 20005. Telephone (202) 408-5400, or e-mail address: dhclarke@GKRSE-law.com.

i. FERC Contact: Any questions on this notice should be addressed to Janet Hutzel at (202) 208-2271, or e-mail address: janet.hutzel@ferc.fed.us.

j. Deadline for filing comments, motions to intervene, and protests: 30 days from the issuance date of this notice.

k. This notice was issued January 29, 2002 with a comment date of February 28, 2002, and is being reissued with an extended deadline for filing.

All documents (original and eight copies) should be filed with: Magalie R. Salas, Secretary, Federal Energy Regulatory Commission, 888 First Street, NE, Washington, DC 20426. Please include the project number (P-4659-026) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, motions to intervene, and protests may be filed electronically via the Internet in lieu of paper. See 18 CFR 385.2001(a)(1)(iii) and the instructions on the Commission's Web site, http://www.ferc.gov, under the “e-Filing” link.

l. Description of Amendment: The license, issued February 28, 1986, authorizes a transmission line route whereby the as yet unconstructed transmission line would interconnect with Arkansas Power and Light (now Entergy). Independence County now intends to interconnect with a Southwestern Power Administration (SWPA) transmission line. Independence County thus proposes to (1) change the route for the unconstructed transmission line and (2) build a substation on an existing Southwestern Power Administration (SWPA) right-of-way.

The proposed transmission line would extend along the north side of the White River eastward nine miles from Lock and Dam No. 3 to the proposed substation. Single pole structures would be used to construct the 25 kV transmission line.

The proposed substation would be located approximately two miles east of White River Lock and Dam No. 2 (Project No. 4660), on the north side of the White River. The 100 ft by 150 ft substation would step-up the voltage from 25 kV to 161 kV, and have a transformer rating of 17.5 kV.

SWPA is a cooperating agency in the processing of the license amendment.

m. A copy of the application is on file with the Commission and is available for public inspection. This filing may also be viewed on the Web at http://www.ferc.gov using the “RIMS” link—select “Docket #” and follow the instructions (call 202-208-2222 for assistance). A copy is also available for inspection and reproduction at the address in item h above. n. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number (No. 4659-026) of the particular application to which the filing refers. A copy of any motion to intervene must also be served upon each representative of Independence County specified in item h, above.

Federal, state, and local agencies are invited to file comments on the described application. A copy of the application may be obtained by agencies directly from the applicant. If an agency does not file comments within the time specified for filing comments, it will be presumed to have no comments. One copy of an agency's comments must also be sent to the Applicant's representative listed in item h, above.

Magalie R. Salas,
Secretary.

[FR Doc. 02-5977 Filed 3-12-02; 8:45 am]

BILLING CODE 6717-01-P